DEPARTMENT OF COMMERCE

International Trade Administration

[A-201-849]

Refillable Stainless Steel Kegs From Mexico: Antidumping Duty Order

AGENCY: Enforcement and Compliance, International Trade Administration, Department of Commerce.

SUMMARY: Based on affirmative final determinations by the Department of Commerce (Commerce) and the International Trade Commission (ITC), Commerce is issuing an antidumping duty order on refillable stainless steel kegs from Mexico.

DATES: Applicable October 10, 2019.

FOR FURTHER INFORMATION CONTACT: Allison Hollander or Minoo Hatten, AD/CVD Operations, Office I, Enforcement and Compliance, International Trade Administration, U.S. Department of Commerce, 1401 Constitution Avenue NW, Washington, DC 20230; telephone: (202) 482-2805 or (202) 482-1690, respectively.

SUPPLEMENTARY INFORMATION:

Background

In accordance with sections 735(d) and 777(i)(1) of the Tariff Act of 1930, as amended (the Act), and 19 CFR 351.210(c), on August 19, 2019, Commerce published its affirmative final determination in the less-than-fair-value (LTFV) investigation, including its affirmative determination of critical circumstances, with respect to imports of refillable stainless steel kegs from Mexico.¹ On October 3, 2019, the ITC notified Commerce of its final determination pursuant to section 735(b)(1)(B) of the Act that the establishment of an industry in the United States is materially retarded by reason of the LTFV imports of refillable stainless steel kegs from Mexico, and its determination that critical circumstances do not exist with respect to imports of subject merchandise from Mexico.²

¹ See Refillable Stainless Steel Kegs From Mexico: Final Affirmative Determination of Sales at Less Than Fair Value and Final Affirmative Determination of Critical Circumstances, 84 FR 42894 (August 19, 2019).

² See Notification Letter from the ITC, dated October 3, 2019 (ITC Letter).

Scope of the Order

The merchandise covered by this order are refillable stainless steel kegs from Mexico. For a complete description of the scope of the order, see the Appendix to this notice.

Antidumping Duty Order

As stated above, on October 3, 2019, in accordance with section 735(d) of the Act, the ITC notified Commerce of its final determination in this investigation, in which it found that the establishment of an industry in the United States is materially retarded within the meaning of section 735(b)(1)(B) of the Act by reason of imports of refillable stainless steel kegs from Mexico sold at LTFV, and further found that critical circumstances do not exist with respect to imports of subject merchandise from Mexico. Therefore, in accordance with section 735(c)(2) of the Act, Commerce is issuing this antidumping duty order.

Because the ITC determined that the establishment of an industry in the United States is materially retarded by imports of refillable stainless steel kegs from Mexico that are sold at LTFV, section 736(b)(2) of the Act is applicable. Accordingly, Commerce will instruct U.S. Customs and Border Protection (CBP) to assess, upon further instruction by Commerce, antidumping duties equal to the amount by which the normal value of the refillable stainless steel kegs from Mexico exceeds the export price (or constructed export price) of the merchandise for entries of refillable stainless steel kegs from Mexico which are entered, or withdrawn from warehouse, for consumption on or after the date of publication of the ITC's final affirmative determination under section 735(b) of the Act.

Suspension of Liquidation

In accordance with section 735(c)(1)(B) of the Act, Commerce will instruct CBP to suspend liquidation of all appropriate entries of refillable stainless steel kegs from Mexico as described in the Appendix to this notice which are entered, or withdrawn from warehouse, for consumption on or after the date of publication of the ITC's notice of final determination in the Federal Register. We will also instruct CBP to require, at the same time as importers would normally deposit estimated customs duties on this merchandise, cash deposits for the subject merchandise equal to the estimated weighted-average antidumping margins listed below. The all others rate applies to all producers or exporters not specifically listed.

In accordance with section 736(b)(2) of the Act, Commerce will instruct CBP to release any bond or other security, and refund any cash deposit made, to secure the payment of antidumping duties with respect to entries of the merchandise entered, or withdrawn from warehouse, for consumption before the date of publication of the ITC's final affirmative determination under section 735(b) of the Act. Further, Commerce will instruct CBP to terminate the suspension of liquidation of, and to liquidate without regard to antidumping duties, entries of refillable stainless steel kegs from Mexico which are entered, or withdrawn from warehouse, for consumption prior to the date of publication of the ITC's affirmative determination under section 735(b) of the Act.

Provisional Measures and Critical Circumstances

Because the ITC determined, in accordance with section 735(d) of the Act, that the establishment of an industry in the United States is materially retarded within the meaning of section 735(b)(1)(B) of the Act by reason of imports of refillable stainless steel kegs from Mexico sold at LTFV, and further found that critical circumstances do not exist with respect to imports of subject merchandise from Mexico,³ provisional measures are inapplicable. Similarly, because of the ITC's final negative determination of critical circumstances, pursuant to section 735(c)(3) of the Act, Commerce will instruct CBP to terminate any retroactive suspension of liquidation, release any bond or other security, and refund any cash deposit required to secure the payment of antidumping duties with respect to entries of refillable stainless steel kegs from Mexico entered, or withdrawn from warehouse, for consumption before the date of publication of the ITC's final affirmative determination under section 735(b) of the Act.

³ See ITC Letter.

Estimated Weighted-Average Dumping Margins

The weighted-average dumping margins are as follows:

Producer/exporter | Weighted- average dumping margin (percent)
THIELMANN Mexico S.A. de C.V | 18.48
Portinox Mexico S.A. de C.V | 18.48
Geodis Wilson Mexico S.A. de C.V | 18.48
All Others | 18.48

Notification to Interested Parties

This notice constitutes the antidumping duty order with respect to refillable stainless steel kegs from Mexico pursuant to section 736(a) of the Act. Interested parties can find a list of antidumping duty orders currently in effect at http://enforcement.trade.gov/stats/iastats1.html.

This order is issued and published in accordance with section 736(a) of the Act and 19 CFR 351.211(b).

Dated: October 4, 2019.
Jeffery I. Kessler,
Assistant Secretary for Enforcement and Compliance.

Appendix

Scope of the Order

The merchandise covered by the order are kegs, vessels, or containers with bodies that are approximately cylindrical in shape, made from stainless steel (i.e., steel containing at least 10.5 percent chromium by weight and less than 1.2 percent carbon by weight, with or without other elements), and that are compatible with a “D Sankey” extractor (refillable stainless steel kegs) with a nominal liquid volume capacity of 10 liters or more, regardless of the type of finish, gauge, thickness, or grade of stainless steel, and whether or not covered by or encased in other materials. Refillable stainless steel kegs may be imported assembled or unassembled, with or without all components (including spears, couplers or taps, necks, collars, and valves), and be filled or unfilled.

“Unassembled” or “unfinished” refillable stainless steel kegs include drawn stainless steel cylinders that have been welded to form the body of the keg and attached to an upper (top) chime and/or lower (bottom) chime. Unassembled refillable stainless steel kegs may or may not be welded to a neck, may or may not have a valve assembly attached, and may be otherwise complete except for testing, certification, and/or marking.

Subject merchandise also includes refillable stainless steel kegs that have been further processed in a third country, including but not limited to, attachment of necks, collars, spears or valves, heat treatment, pickling, passivation, painting, testing, certification or any other processing that would not otherwise remove the merchandise from the scope of the order if performed in the country of manufacture of the in-scope refillable stainless steel keg.

Specifically excluded are the following:

(1) Vessels or containers that are not approximately cylindrical in nature (e.g., box, “hopper” or “cone” shaped vessels);

(2) stainless steel kegs, vessels, or containers that have either a “ball lock” valve system or a “pin lock” valve system (commonly known as “Cornelius,” “corny” or “ball lock” kegs);

(3) necks, spears, couplers or taps, collars, and valves that are not imported with the subject merchandise; and

(4) stainless steel kegs that are filled with beer, wine, or other liquid and that are designated by the Commissioner of Customs as Instruments of International Traffic within the meaning of section 332(a) of the Tariff Act of 1930, as amended.

The merchandise covered by the order are currently classified in the Harmonized Tariff Schedule of the United States (HTSUS) under subheadings 7310.10.0010, 7310.10.0050, 7310.29.0025, and 7310.29.0050.

These HTSUS subheadings are provided for convenience and customs purposes; the written description of the scope of the order is dispositive.

[FR Doc. 2019-22279 Filed 10-9-19; 8:45 am]

BILLING CODE 3510-DS-P